DEPARTMENT OF COMMERCE

National Oceanic and Atmospheric Administration

[RTID 0648-XC328]

North Pacific Fishery Management Council; Public Meeting

AGENCY: National Marine Fisheries Service (NMFS), National Oceanic and Atmospheric Administration (NOAA), Commerce.

ACTION: Notice of public hybrid meeting.

SUMMARY: The North Pacific Fishery Management Council (Council) Groundfish Plan Teams will meet September 19, 2022, through September 23, 2022.

DATES: The meetings will be held on Monday, September 19, 2022 through Friday, September 23, 2022, from 9 a.m. to 5 p.m., PDT.

ADDRESSES:

Meeting address: The meetings will be a hybrid meeting. The in-person component of the meeting will be held at the Alaska Fishery Science Center in the Traynor Room (2076) and the Observer Room (1055), 7600 Sand Point Way NE, Building 4, Seattle, WA 98115, or join the meeting online through the links at https://meetings.npfmc.org/Meeting/Details/2949.

Council address: North Pacific Fishery Management Council, 1007 W 3rd Ave, Anchorage, AK 99501-2252; telephone: (907) 271-2809. Instructions for attending the meeting are given under SUPPLEMENTARY INFORMATION, below.

FOR FURTHER INFORMATION CONTACT: Sara Cleaver, Council staff; email: sara.cleaver@noaa.gov or Diana Stram, Council staff; email diana.stram@noaa.gov; telephone: (907) 271-2809.

For technical support, please contact our administrative staff; email: npfmc.admin@noaa.gov.

SUPPLEMENTARY INFORMATION:

Agenda

Monday, September 19, 2022, Through Friday, September 23, 2022

The Bering Sea and Aleutian Islands (BSAI) and Gulf of Alaska (GOA) Groundfish Plan Teams will meet to review and discuss issues of importance to both Plan Teams, including but not limited to: Economic and Socioeconomic Profile update, Ecosystem Status Report Climate update, Ecosystem surveys, Essential Fish Habitat, Economic Stock Assessment and Fishery Evaluation (SAFE), Bottom Trawl Surveys (BTS), Longline survey, updates on model progress for stock assessments to be presented in November, and proposed harvest specifications. The agenda is subject to change, and the latest version will be posted at https://meetings.npfmc.org/Meeting/Details/2949 prior to the meeting, along with meeting materials.

Connection Information

You can attend the meeting online using a computer, tablet, or smartphone; or by phone only. Connection information will be posted online at: https://meetings.npfmc.org/Meeting/Details/2949.

Public Comment

Public comment letters should be submitted electronically via the electronic agenda at https://meetings.npfmc.org/Meeting/Details/2949.

Authority: 16 U.S.C. 1801 et seq.

Dated: August 30, 2022.
Rey Israel Marquez,
Acting Deputy Director, Office of Sustainable Fisheries, National Marine Fisheries Service.

[FR Doc. 2022-19076 Filed 9-1-22; 8:45 am]

BILLING CODE 3510-22-P